DEPARTMENT OF EDUCATION

Privacy Act of 1974; System of Records—Presidential Scholars Program Files and PSAonline Application System (18-06-03)

AGENCY: Office of Communications and Outreach, Department of Education.

ACTION: Notice of an altered system of records.

SUMMARY: In accordance with the Privacy Act of 1974, as amended (Privacy Act), we publish this notice to amend the system of records entitled “Presidential Scholars Program Files and PSAonline Application System” (18-06-03) to reflect the fact that the general support system for the “PSAonline” application system has changed from a contractor site to the U.S. Department of Education's Network (EDNet). This change in the host of the online system will increase the security of the information contained in this system of records. More specifically, we are amending the system of records, last published in the Federal Register on December 3, 2003 (68 FR 67782), in the following ways: (1) By listing the Office of Chief Information Officer as the central system location. (2) By updating the sections on storage and safeguards to reflect current retention and safety measures. (3) By adding an appendix listing additional system locations.

DATES: The amendments in this notice are effective on October 24, 2005.

FOR FURTHER INFORMATION CONTACT: Melissa Apostolides, Office of Communications and Outreach, 400 Maryland Avenue, SW., room 5E119, Washington, DC 20202-8173. Telephone: (202) 205-0512. If you use a telecommunications device for the deaf (TDD), you may call the Federal Relay Service (FRS) at 1-800-877-8339.

Individuals with disabilities may obtain this document in an alternative format (e.g., Braille, large print, audiotape, or computer diskette) on request to the contact person listed in the previous paragraph.

SUPPLEMENTARY INFORMATION:

Introduction

The Privacy Act (5 U.S.C. 552a) requires the Department to publish in the Federal Register this notice of an altered system of records maintained by the Department. The Department's regulations implementing the Privacy Act are contained in the Code of Federal Regulations (CFR) in 34 CFR part 5b.

The Privacy Act applies to information about individuals that contains individually identifiable information that is retrieved by a unique identifier associated with each individual, such as a name or social security number. The information about each individual is called a “record” and the system, whether manual or computer-based, is called a “system of records.”

The Privacy Act requires each agency to publish a notice of new or altered systems of records in the Federal Register. Each agency also must submit reports to the Administrator of the Office of Information and Regulatory Affairs, Office of Management and Budget (OMB), the Chair of the Senate Committee on Homeland Security and Governmental Affairs, and the Chair of the House Committee on Government Reform whenever the agency publishes a new system of records or makes a significant change to an established system of records. Minor changes to an established system of records, such as the amendments to the Presidential Scholars Program Files and PSAonline Application System, do not require an agency to prepare a report.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO); toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: October 18, 2005.
Kevin F. Sullivan,
Assistant Secretary for Communications and Outreach.

For the reasons discussed in the preamble, the Assistant Secretary for the Office of Communications and Outreach of the U.S. Department of Education amends the system of records entitled Presidential Scholars Program Files and PSAonline Application System (18-06-03). The following amendments are made to the notice of an altered system of records published in the Federal Register on December 3, 2003 (68 FR 67782-67785):

1. On pages 67782, third column, and 67783, first column, the information under the heading “SYSTEM LOCATIONS,” is revised to read as follows:

System Locations

Office of the Chief Information Officer, Regional Office Building 3, 301 7th and D Streets, SW., Washington, DC 20202-8173.

See the Appendix at the end of this notice for additional system locations.

2. On page 67784, third column, make the following changes:

a. Under the heading “STORAGE,” the paragraph is revised to read as follows:

Storage

The records are maintained in hard copy filed in lockable standard filing cabinets; on access-controlled personal computers; and in a computer database maintained on the Department of Education's Network (EDNet).

b. Under the heading “SAFEGUARDS,” the first paragraph is revised to read as follows:

Safeguards

All physical access to the Department of Education site where this system of records is maintained and the sites of the Department of Education's staff and contractors with access to the system is controlled and monitored by security personnel who check each individual entering the building for his or her employee or visitor badge.

3. On page 67785, at the end of the third column, add a new heading and list three additional system locations as follows:

Appendix to 18-06-03

Additional System Locations

U.S. Presidential Scholars Program, Community Services, Partnerships and Recognition Programs Team, Office of Communications and Outreach, U.S. Department of Education, 400 Maryland Avenue, SW., Washington, DC 20202-8173.

American College Testing, Inc., Recognition Program Services, 301 ACT Drive, Iowa City, Iowa 52243-4030.

Fastek, 1425 60th Street NE., Cedar Rapids, Iowa 52402-1253.

[FR Doc. 05-21149 Filed 10-21-05; 8:45 am]

BILLING CODE 4000-01-P